ENVIRONMENTAL PROTECTION AGENCY

[FRL-7817-8]

Meeting of the Mobile Sources Technical Review Subcommittee

AGENCY: Environmental Protection Agency (EPA).

ACTION: Notice of meeting.

SUMMARY: Pursuant to the Federal Advisory Committee Act, Public Law 92-463, notice is hereby given that the Mobile Sources Technical Review Subcommittee (MSTRS) will meet in October 2004. This is an open meeting. The meeting will include updates on workgroup activities. The main topic of the meeting will be the mobile source recommendations by the National Academy of Sciences published in Air Quality Management in the United States. The preliminary agenda for the meeting, as well as the minutes from the previous (June 2004) meeting will be posted on the Subcommittee's Web site: http://www.epa.gov/air/caaac/mobile_sources.html. MSTRS listserver subscribers will receive notification when the agenda is available on the Subcommittee Web site. To subscribe to the MSTRS listserver, go to https://lists.epa.gov/cgi-bin/lyris.pl?enter=mstrs. The site contains instructions and prompts for subscribing to the listserver service.

DATES: Monday, October 4, 2004 from 9 a.m. to 4 p.m. Registration begins at 8:30 a.m.

ADDRESSES: The meeting will be held at the Crowne Plaza Washington—National Airport Hotel, 1489 Jefferson Davis Highway, Arlington, VA. 1-703-416-1600. The hotel is located one block from the Crystal City Metro station, and shuttle buses are available to and from Washington Reagan National Airport.

FOR FURTHER INFORMATION CONTACT: For technical information: Dr. L. Joseph Bachman, Designated Federal Officer, Transportation and Regional Programs Division, Mailcode 6406J, U.S. EPA, 1200 Pennsylvania Ave. NW., Washington, DC 20460; Ph: 202-343-9373; e-mail, bachman.joseph@epa.gov.

For logistical and administrative information: Ms. Cassandra Wallace, FACA Management Officer, U.S. EPA, Mailcode 6406J, U.S. EPA, 1200 Pennsylvania Ave. NW., Washington, DC 20460; Ph: 202-343-9373 ; e-mail: wallace.cassandra@epa.gov. Background on the work of the Subcommittee is available at http://transaq.ce.gatech.edu/epatac/, and more current information is found at: http://www.epa.gov/air/caaac/mobile_sources.html.

Individuals or organizations wishing to provide comments to the Subcommittee should submit them to Dr. Bachman at the address above by September 27, 2004. The Subcommittee expects that public statements presented at its meetings will not be repetitive of previously submitted oral or written statements.

SUPPLEMENTARY INFORMATION: During the meeting, the Subcommittee may also hear progress reports from some of its workgroups as well as updates and announcements on activities of general interest to attendees.

Dated: September 15, 2004.
Karl Simon,
Acting Director, Office of Transportation and Air Quality.

[FR Doc. 04-21498 Filed 9-23-04; 8:45 am]

BILLING CODE 6560-50-P